DEPARTMENT OF TRANSPORTATION

National Surface Transportation Policy and Revenue Study Commission Request for Field Hearing Proposals

AGENCY: National Surface Transportation Policy and Revenue Study Commission, DOT.

ACTION: Notice; request for field hearing proposals.

SUMMARY: The National Surface Transportation Policy and Revenue Study Commission (“Commission”) is conducting a study of the needs and financing of surface transportation as described in sections 1909(b)(5), (6), and (7) of the Safe, Accountable, Flexible, Efficient Transportation Equity Act: A Legacy for Users (SAFETEA-LU) (Pub. L. 109-59, August 10, 2005). The Commission will conduct field hearings to receive views from interested parties and obtain public input to the study. The purpose of this notice is to request that organizations interested in co-hosting a field hearing submit proposals to the Commission. The hearings will be open to the public.

DATES: Requests from members of the public to participate as a co-host in these hearings must be received by the Commission not later than August 25, 2006. The hearings will be held on September 20-21, 2006, November 15-16, 2006, February 21-22, 2007, and April 18-19, 2007 in various locations throughout the country.

ADDRESSES: Submissions should be captioned “Hearing Proposals” and e-mailed to info@surfacecommission.gov. Submissions may also be mailed to Mr. Robert A. Mariner, Environmental Protection Specialist, Office of the Assistant Secretary for Transportation Policy, (202) 493-0064, 400 Seventh Street, SW., Room 10228, Washington, DC 20590. Office hours are from 8:30 a.m. to 5:30 p.m., e.t., Monday through Friday, except Federal holidays.

FOR FURTHER INFORMATION CONTACT: For further information about the Commission and the upcoming field hearings, contact Mr. Robert A. Mariner, Environmental Protection Specialist (info@surfacecommission.gov), Office of the Assistant Secretary for Transportation Policy, (202) 493-0064, 400 Seventh Street, SW., Room 10228, Washington, DC 20590. Office hours are from 8:30 a.m. to 5:30 p.m., e.t., Monday through Friday, except Federal holidays.

SUPPLEMENTARY INFORMATION:

Electronic Access

An electronic copy of this notice may be downloaded from the Office of the Federal Register's home page at http://www.archives.gov and the Government Printing Office's Web site at http://www.access.gpo.gov. Further information on the Commission is available on its Web site at http://www.surfacecommission.gov.

Background

Section 1909(b) of SAFETEA-LU established the National Transportation Revenue and Policy Study Commission to address the needs and financing of surface transportation as described in sections 1909(b)(5), (6), and (7). In carrying out its responsibilities, the Commission is authorized to hold hearings to take relevant testimony and receive relevant evidence at such times and places the Commission deems appropriate. The Commission intends to conduct at least four hearings to receive views from interested parties and obtain public input into its study.

Organizations interested in submitting a proposal to co-host one of the Commission's field hearings, should do so no later than August 25, 2006. While there is no template for the submissions, each proposal should at the least address the following issues:

(i) Preferred date (out of those listed) for the hearing;

(ii) Proposed location of the hearing, and the location's relevance to the Commission's work (field hearing locations will be determined based on proposals received);

(iii) Organization(s) that will co-host the hearing;

(iv) Recommendations on key topics and themes to be addressed at the hearing. Please use the Commission's authorizing statute, specifically sections 1909(b)(5), (6), and (7), as a guide to the matters the Commission is required to study and address;

(v) Costs of the hearing to be borne by the Commission; and

(vi) Full contact information for the organization(s).

The Executive Director of the Commission will contact each organization submitting a proposal that is selected by the Commission. All interested organizations are encouraged to attend the field hearings, the details of which will be announced in future Federal Register notices.

(Authority: Section 1909(b) of Pub. L. 109-59.)

Issued on: July 20, 2006.
Quintin Kendall,
Executive Director, National Surface Transportation Policy and Revenue Study Commission.

[FR Doc. E6-11904 Filed 7-25-06; 8:45 am]

BILLING CODE 4910-22-P